DEPARTMENT OF ENERGY

[OE Docket No. PP-22-4]

Application To Amend Presidential Permit; British Columbia Transmission Corporation

AGENCY: Office of Electricity Delivery and Energy Reliability, DOE.

ACTION: Notice of application.

SUMMARY: British Columbia Transmission Corporation (BCTC) has applied for an amendment of a Presidential permit to construct, operate, and maintain an electric transmission line across the U.S. international border.

DATES: Comments, protests, or requests to intervene must be submitted on or before May 24, 2007.

ADDRESSES: Comments, protests, or requests to intervene should be addressed as follows: Office of Electricity Delivery and Energy Reliability (OE-20), U.S. Department of Energy, 1000 Independence Avenue, SW., Washington, DC 20585.

FOR FURTHER INFORMATION CONTACT: Dr. Jerry Pell (Program Office) at 202-586-3362, or by e-mail to Jerry.Pell@hq.doe.gov, or Michael T. Skinker (Program Attorney) at 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038.

On March 26, 2007, BCTC, a Canadian corporation, filed an application with the Office of Electricity Delivery and Energy Reliability (OE) of the Department of Energy (DOE) to amend Presidential Permit PP-22 which authorized the construction, operation, and maintenance of ten, single-conductor 132-kV submarine cables which cross the U.S. international border twice in the Strait of Georgia. The international transmission facilities covered by Presidential Permit PP-22 do not connect to any U.S. electrical facility, but rather connect the mainland of British Columbia (B.C.), Canada, and Vancouver Island, passing through approximately 7.5 miles of U.S. territorial waters in the Strait of Georgia. BCTC proposes to replace the three southernmost cables with three new submarine cables which would operate at 230-kV.

BCTC is the successor to the British Columbia Hydro and Power Authority, which in turn is the successor to the British Columbia Electric Company Limited, the original holder of PP-22. BCTC requests that if DOE grants its request to amend PP-22 the amended permit be issued to BCTC.

Procedural Matters: Any person desiring to become a party to this proceeding or to be heard by filing comments or protests to this application should file a petition to intervene, comment or protest at the address provided above in accordance with § 385.211 or 385.214 of the Federal Energy Regulatory Commission's (FERC) Rules of Practice and Procedures (18 CFR 385.211, 385.214). Fifteen copies of each petition and protest should be filed with DOE on or before the date listed above.

Additional copies of such petitions to intervene or protest also should be filed directly with Mr. Bruce Barrett, Vice President, Major Projects, British Columbia Transmission Corp., Suite 110, Four Bentall Centre, 1055 Dunsmuir Street, P.O. Box 49260, Vancouver, B.C. V7X 1V5, Canada.

Before a Presidential permit may be granted or amended, DOE must determine that the proposed action will not adversely impact on the reliability of the U.S. electric power supply system. In addition, DOE must consider the environmental impacts of the proposed action (i.e., granting the Presidential permit, with any conditions and limitations, or denying the permit) pursuant to the National Environmental Policy Act of 1969. DOE also must obtain the concurrences of the Secretary of State and the Secretary of Defense before taking final action on a Presidential permit application.

Copies of this application will be made available, upon request, for public inspection and copying at the address provided above. In addition, the application may be reviewed or downloaded electronically at http://www.oe.energy.gov/permitting/electricity_imports_exports.htm. Upon reaching the home page, select “Pending Applications.”

Issued in Washington, DC, on April 16, 2007.
Anthony J. Como,
Director, Siting and Permitting, Office of Electricity Delivery and Energy Reliability.

[FR Doc. E7-7753 Filed 4-23-07; 8:45 am]

BILLING CODE 6450-01-P